DEPARTMENT OF THE INTERIOR

Bureau of Indian Affairs

[178A2100DD/AAKC001030/A0A501010.999900 253G]

Land Acquisitions; Pokagon Band of Potawatomi Indians, Michigan and Indiana

AGENCY: Bureau of Indian Affairs, Interior.

ACTION: Notice of final agency determination.

SUMMARY: The Assistant Secretary—Indian Affairs made a final agency determination to acquire 165.81 acres, more or less, of land in trust for the Pokagon Band of Potawatomi Indians, Michigan and Indiana, for gaming and other purposes on November 17, 2016.

FOR FURTHER INFORMATION CONTACT: Ms. Paula L. Hart, Director, Office of Indian Gaming, Bureau of Indian Affairs, MS-3657 MIB, 1849 C Street NW., Washington, DC 20240; telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On November 17, 2016, the Assistant Secretary—Indian Affairs issued a decision to accept approximately 165.81 acres, more or less, of land in trust for the Pokagon Band of Potawatomi Indians, Michigan and Indiana (Band), under the authority of the Pokagon Restoration Act, Public Law No. 103-323 (Sept. 21, 1994), 108 Stat. 2152. The Department previously determined that land acquired for the Band pursuant to the Pokagon Restoration Act was eligible for gaming pursuant to the Indian Gaming Regulatory Act's “restored lands” exception, 25 U.S.C. 2719 (b)(1)(B)(iii), to the general prohibition contained in 25 U.S.C. 2719(a) on gaming on lands acquired in trust after October 17, 1988.

The Assistant Secretary—Indian Affairs, on behalf of the Secretary of the Interior, will immediately acquire title in the name of the United States of America in trust for the Pokagon Band of Potawatomi Indians upon fulfillment of Departmental requirements.

Legal Description

The 165.81 acres, more or less, are located in the County of St. Joseph, State of Indiana, and are described as follows:

Bill Marvin

Parcel I

Lot 2A, as shown on the Plat of Locust Meadows First Replat recorded May 19, 2006 in the Office of the Recorder of St. Joseph County, Indiana, as Instrument No. 0620937, together with the west half of vacated Maple Road as adopted by South Bend City Ordinance 10093-11 which lies east of the portion of Lot 2A lying west of the vacated Maple Road and also together with the east half of the vacated Maple Road lying within said lot 2A and west of and adjacent to the west line of said lot 2A.

Parcel II

All that part of the West Half of the Northwest Quarter of Section 27, Township 37 North, Range 2 East that lies north and east of the U.S. 31/U.S. 20 Bypass.

Said Parcel II also described in survey as follows: That part of the West Half of the Northwest Quarter of Section 27, Township 37 North, Range 2 East, City of South Bend, St. Joseph County, Indiana, that lies north and east of the U.S. 31/U.S. 20 Bypass, more particularly described as: Beginning at a found rebar with Cap #22436 at the southeast corner of Lot 2A, Plat of Locust Meadows First Replat recorded May 19, 2006 in the Office of the Recorder of St. Joseph County, Indiana, as Instrument No. 0620937, said point being on the north line of said Section 27 a distance of 1305.58 feet South 89°43′47″ West of the North Quarter corner of said Section 27; thence South 00°25′21″ East on the east line of the West Half of the Northwest Quarter of said Section 27 a distance of 102.16 feet to a ⅝″ rebar with Cap #20800148 on the northeasterly right of way line of U.S. Highway 31; thence North 51°54′48″ West on said northeasterly right of way line 164.63 feet to a ⅝″ rebar with Cap #20800148 on the south line of said Lot 2A, said line also being the north line of said Section 27; thence North 89°43′47″ East (platted North 89°26′43″ East) 128.83 feet (platted 119.82 feet) to the point of beginning.

TPN: 018-8155-5574

Bova

Lot Numbered One (1) as shown on the plat of CATALDO'S LOCUST ROAD MINOR SUBDIVISION recorded June 23, 2008 in the Office of the Recorder of St. Joseph County, Indiana as Instrument No. 0820866.

TPN: 018-8153-5528

Cataldo

Lot 2 as shown on the plat of Cataldo's Locust Road Minor Subdivision recorded June 23, 2008 in the Office of the Recorder of St. Joseph County, Indiana as Instrument No. 0820866. Also, the easterly fifty (50) feet of the southerly two hundred (200) feet of Lot 1 as shown on the plat of Hollingsworth Prairie Avenue Minor Subdivision recorded December 26, 2006 in the Office of the Recorder of St. Joseph County, Indiana as Instrument No. 0654912.

TPN: 018-8153-551404 and 018-8153-551406

Crady

That part of the East Half of the Northeast Quarter of the Southeast Quarter and that part of the Southeast Quarter of the Southeast Quarter of Section 21, Township 37 North, Range 2 East, City of South Bend, Portage Township, St. Joseph County, Indiana, described as follows:

Commencing at the East Quarter corner of said Section 21; thence South 00°19′53″ East (deeded south) on the east line of said Section 21 a distance of 630.19 feet (deeded 628.7 feet); thence North 89°38′11″ West (deeded west) 30.00 feet to a ⅝. rebar with cap #20800148 on the west right of way line of South Maple Road and the Point of Beginning of the land herein described; thence South 00°19′53″ East on said west right of way line and parallel with said east Section line, 860.71 feet to a ⅝. rebar with cap #20800148 on the northeasterly right of way line of U.S. Highway 31 Bypass; thence Northwesterly 60.78 feet on said northeasterly right of way line and on a 11594.15 foot radius curve to the left whose chord bears North 50°28′47″ West 60.78 feet to a ⅝. rebar with cap #20800148; thence North 69°16′33″ West on said northeasterly right of way line 159.48 feet to a ⅝. rebar with cap #20800148; thence Northwesterly 376.40 feet on said northeasterly right of way line and on a 11544.15 foot radius curve to the left whose chord bears North 52°18′50″ West 376.39 feet to a ⅝ rebar with cap #20800148; thence North 40°19′31″ West on said northeasterly right of way line 144.95 feet to a ⅝. rebar with cap #20800148; thence Northwesterly 35.61 feet (deeded 36.6 feet) on said northeasterly right of way line and on a 799.40 foot radius curve to the right whose chord bears North 42°14′16″ West (deeded North 41°49′ West per a right of way grant to the Indiana State Highway Commission recorded in Deed Record 630, pages 379-381 in the Office of the Recorder of St. Joseph County, Indiana and deeded North 41°49′ West per a Quit Claim Deed recorded as Document Number 0403607 in the Office of the Recorder of St. Joseph County, Indiana) 35.60 (deeded 36.6 feet) feet to a ⅝ rebar with cap #20800148; thence North 39°49′12″ West (deeded North 40°30′ West) on said northeasterly right of way line 32.90 feet to a ⅝. rebar with cap #20800148 said point being on the west line of the East Half of the Northeast Quarter of the Southeast Quarter of said Section 21 and on the west line of Locust Meadows First Replat, Document No. 0620937, and extension thereof; thence North 00°20′11″ West (platted North 00°36′56″ West) on said west line and on said west subdivision line extended 477.36 feet to a 3. diameter post at the southwest corner of Lot 2A of said Locust Meadows First Replat; thence South 89°38′11″ East (platted South 89°55′48″ East) on the south line of said Lot 2A 194.37 feet to a ⅝. rebar with cap #20800148; thence South 00°19′53″ East (deeded south) parallel with said east Section line, 100 feet to a ⅝. rebar with cap #20800148; thence South 89°38′11″ East (deeded east) parallel with said south subdivision line, 435.60 feet to the point of beginning. Said in survey to contain 10.24 acres more or less.

Together with the west half of the vacated Maple Road as adopted by South Bend City Ordinance 10093-11 lying east and adjacent to the above described parcel.

Subject to legal highways.

Parcel No.: 018-8152-5499

Donmoyer

The South forty feet of the following real estate in St. Joseph County, Indiana:

All that part of the West Half of the Northwest Quarter of Section 22, Township 37 North, Range 2 East, which lies South of Sumption Prairie Road, excepting a tract of land containing five acres taken off of the east side thereof, also excepting the West 70 feet thereof.

Description of parcel as surveyed: That part of the Northwest Quarter of Section 22, Township 37 North, Range 2 East, City of South Bend, Portage Township, St. Joseph County, Indiana, described as: Commencing at the West Quarter corner of said Section 22, said point being a found Harrison Monument and referred as a St. Joseph County Remonumentation Corner, Station Number 425; thence North 89°20′04″ East on the south line of the Northwest Quarter of said Section 22 a distance of 70.00 feet to a found ⅝″ capped rebar and the point of beginning of the land herein described; thence North 00°05′32″ West parallel with the West line of the Northwest Quarter of said Section 22 a distance of 40.00 feet to a found ⅝″ capped rebar; thence North 89°20′04″ East parallel with said South line 1063.69 feet to a found ⅝″ capped rebar; thence South 00°00′55″ West 40.00 feet to a found gear shaft on said South line; thence South 89°20′04″ West on said South line 1063.61 feet to the point of beginning.

TPN: 018-8153-5509 and 018-8153-5510

Gary Marvin

Lot Numbered One A (1A) as shown on the plat of LOCUST MEADOWS FIRST REPLAT recorded May 19, 2006 in the Office of the Recorder of St. Joseph County, Indiana as Instrument No. 0620937.

TPN: 018-8155-557401

Geyer

That part of the Southwest Quarter of Section 22 and the Northwest Quarter of Section 27, Township 37 North, Range 2 East, City of South Bend, Centre Township, St. Joseph County, Indiana, described as: Beginning at a mag nail with washer #20800148 marking the Quarter corner common to said Sections 22 and 27; thence South 00°57′09″ East on the east line of the Northwest Quarter of said Section 27 a distance of 275.91 feet to a mag nail with washer #20800148; thence South 89°11′23″ West 10.49 feet (deeded North 89°43′26″ West 10.24 feet) to a found mag nail; thence South 20°45′32″ West 62.41 feet (deeded South 23°49′29″ West 61.92 feet) to a found concrete right of way monument; thence South 89°43′47″ West (deeded North 89°11′02″ West) 993.31 feet to a ⅝″ rebar with cap #20800148 on the northwesterly right of way line of U.S. Highway 31 By-Pass; thence North 42°13′26″ West (deeded North 42°44′ West) on said northwesterly right of way line 40.06 feet (deeded 37.9 feet) to a ⅝″ rebar with cap #20800148; thence North 51°54′48″ West (deeded North 52°25′ West) on said northwesterly right of way line 325.98 feet (deeded 326.4 feet) to a ⅝″ rebar with cap #20800148 on the west line of the East Half of the Northwest Quarter of said Section 27; thence North 00°25′21″ West on said west line 102.16 feet to a found capped rebar #22436 at the southwest corner of the East Half of the Southwest Quarter of said Section 22, said point also being the southeast corner of Locust Meadows First Replat, Document Number 0620937; thence North 00°02′40″ West (deeded North, platted North 00°19′32″ West) on the west line of the East Half of the Southwest Quarter of said Section 22, said line also being the east line of said Locust Meadows First Replat, 448.31 feet to a found 3″ metal post in concrete; thence North 89°43′47″ East (deeded East) 779.92 feet to a ⅝″ rebar with cap #20800148; thence South 00°15′29″ West (deeded South) parallel with said east line of the Southwest Quarter 165.00 feet to a ⅝″ rebar with cap #20800148; thence North 89°43′47″ East (deeded East) 528.02 feet to a mag nail with washer #20800148 on said east line; thence South 00°15′29″ West on said east line 283.33 feet to the point of beginning.

Subject to legal highways.

TPN: 018-8155-5589 and 023-1046-3052

Haverstock

That part of the Northwest Quarter of Section 27, Township 37 North, Range 2 East, City of South Bend, Centre Township, St. Joseph County, Indiana, described as: Commencing at a mag nail with washer #20800148 marking the north quarter corner of said Section 27; thence South 00°57′09″ East (deed South and South 00°14′58″ West) on the east line of the Northwest Quarter of said Section 27 a distance of 334.27 feet (deeded 333 feet); thence South 89°43′47″ West 33.58 feet (deeded North 89°11′02″ West 35 feet) to a found concrete right of way monument marking the west right of way line of Locust Road and the POINT OF BEGINNING of the land herein described; thence South 00°39′05″ East (deed South 00°14′58″ West) on said west right of way line 62.84 feet (deeded 68.24 feet) to a ⅝″ rebar with cap #20800148; thence South 03°47′20″ West (deed South 04°41′22″ West) on said west right of way line 250.74 feet to a ⅝″ rebar with cap #20800148; thence South 09°09′18″ East (deeded South 08°15′16″ East) on said west right of way line 101.12 feet to a ⅝″ rebar with cap #20800148; thence South 00°37′26″ East (deeded South 00°16′34″ West) on said west right of way line 50.00 feet to a ⅝″ rebar with cap #20800148; thence South 15°19′16″ West (deeded South 16°13′18″ West) on said west right of way line 72.80 feet to a ⅝″ rebar with cap #20800148; thence South 00°11′14″ West (deeded South 01° 05′26″ West) on said west right of way line 33.08 feet to a ⅝″ rebar with cap #20800148; thence South 03°09′39″ West (deeded South 02°35′ West) on said west right of way line 226.50 feet (deeded 225.6 feet) to a ⅝″ rebar with cap #20800148 on the northeasterly right of way line of U.S. Highway 31 By-Pass; thence South 88°38′20″ West (deeded South 89°20′ West) on said northeasterly right of way line 125.50 feet (deeded 127.13 feet) to a ⅝″ rebar with cap #20800148; thence North 48°38′34″ West (deeded North 49°09′ West) on said northeasterly right of way line 790.28 feet (deeded 793.5 feet) to a ⅝″ rebar with cap 20800148; thence North 42°13′26″ West (deeded North 42°44′ West) on said northeasterly right of way line 362.47 feet (deeded 364.7 feet) to a ⅝″ rebar with cap #20800148; thence North 89°43′47″ East 993.31 feet (deeded North 89°20′ East 995.80 feet) to the Point of Beginning, said in survey to containing 10.63 acres more or less.

Subject to legal highways.

TPN: 023-1046-3053

Horrall

Part of the Southwest ½ of the Northwest ½ of Section 22, Township 37 North, Range 2 East, described as follows:

Beginning at a point Four Hundred Ninety-four and Five Tenths (494.5) feet East of the West ¼ corner of Section Twenty-two (22), Township Thirty-seven (37) North, Range Two (2) East; thence North Seven Hundred Forty-three and Eighty-seven Hundredths (743.87) feet to the center line of Prairie Avenue; thence Northeasterly One Hundred (100) feet along said center line of Prairie Avenue; thence South Seven Hundred Ninety-five and Twenty-five Hundredths (795.25) feet to the East and West center line of said Section Twenty-two (22), Township Thirty-seven (37) North, Range Two (2) East; thence West Eighty-four and Nine tenths (84.9) feet to the place of beginning.

Excepting Therefrom: Forty (40) feet in width North and South taken off and from the entire South end for Donmoyer Avenue.

Also excepting therefrom: Forty (40) feet at right angles with the center line of Prairie Avenue of the already established highway known as Prairie Avenue.

Being described in a survey as: That part of the Northwest Quarter of Section 22, Township 37 North, Range 2 East, City of South Bend, Portage Township, St. Joseph County, Indiana, described as:

Commencing at the West Quarter corner of Section 22, said point being a found Harrison Monument and referenced as a St. Joseph County Remonumentation corner, Station Number 425; thence North 89°20′04″ East (Deeded East) on the South line of the Northwest Quarter of said Section 22 a distance of 580.11 feet (Deeded 579.4 feet in Warranty Deed recorded in Instrument No. 8313990) to a ¾″ pinch pipe 6″ above the surface; thence North 00°03′03″ West (Deeded North) 40.00 feet to a ⅝″ rebar with cap #20800148 and the point of beginning of the land herein described; thence South 89°20′04″ West (Deeded West) parallel with and 40 feet North of said South line 84.90 feet to a ⅝″ rebar with cap #20800148; thence North 00°03′03″ West (Deeded North) 656.81 feet to a ⅝″ rebar with cap #20800148 on the Southeasterly Right of Way line of Prairie Avenue (State Road 23); thence North 58°20′40″ East on said Southeasterly Right of Way line 99.68 feet to a ⅝″ rebar with cap #20800148; thence South 00°03′03″ East (Deeded South) 708.13 feet to the point of beginning. Said in survey to contain 1.33 acres, more or less.

Subject to legal highways.

TPN: 018-8153-5506

Hutchins

A part of the Southwest Quarter of the Northwest Quarter of Section No. 22, in Township 37 North, Range 2 East, described as follows:

Beginning at a point 664.3 feet East of the West Quarter corner of Section 22, Township 37 North, Range 2 East; thence North 846.63 feet to the center line of Prairie Avenue; thence Northeasterly 100 feet along said center line of Prairie Avenue; thence South 898.01 feet to the East and West center line of said Section 22; thence West 84.9 feet to the place of beginning, excepting 40 feet in width, north and south taken off and from the entire south end for Donmoyer Avenue. Also excepting 40 feet at right angles with the center line of Prairie Avenue of the already established Highway known as Prairie Avenue.

Also Lot Numbered Six (6) being a part of the Southwest Quarter of the Northwest Quarter of Section 22, Township 37 North, Range 2 East, described as follows:

Beginning at a point 579.4 feet East of the West quarter corner of Section 22, Township 37 North, Range 2 East; thence North 795.25 feet to the center line of Prairie Avenue; thence Northeasterly 100 feet along said center line of Prairie Avenue; thence South 846.63 feet to the East and West center line of said Section 22, Township 37 North, Range 2 East; thence West 84.9 feet to the place of beginning. Excepting 40 feet in width, north and south taken off and from the entire south end for Donmoyer Avenue. Also excepting 40 feet at right angles with the center line of Prairie Avenue of the already established highway known as Prairie Avenue.

Excepting from the above two tracts: A part of the Southwest Quarter of the Northwest Quarter of Section 22, Township 37 North, Range 2 East in St. Joseph County, Indiana, described as follows:

Commencing at the Southwest corner of said Quarter Quarter section; thence North 89°07′35″ East (assumed bearing) 579.4 feet along the south line of said Southwest Quarter of the Northwest Quarter to the southwest corner of land belonging to Herman C. Mutchler as described in Book 767, Page 169, in the Office of the Recorder, St. Joseph County, Indiana; thence North 00°09′02″ West 730.74 feet along the west line of said Mutchler land to the Point of Beginning; thence continuing North 00°09′02″ West 64.66 feet along said west line to the centerline of State Road 23, also being the northern boundary of said Mutchler land; thence North 58°07′20″ East 199.62 feet along said centerline to the east line of said Mutchler land; thence South 00°09′02″ East 64.66 feet along said east line; thence South 58°07′20″ West 199.62 feet to the point of beginning.

Subject to legal highways.

Also being described by survey as follows: That part of the Northwest Quarter of Section 22, Township 37 North, Range 2 East, City of South Bend, Portage Township, St. Joseph County, Indiana, described as: Commencing at the West Quarter corner of said Section 22, said point being a found Harrison Monument and referenced as a St. Joseph County Remonumentation Corner, Station Number 425; thence North 89°20′04″ East (deeded East) on the East and West Quarter Line of said Section 22 a distance of 580.11 feet (deeded 579.4 feet) to a found ¾″ pinched pipe; thence North 00°03′03″ West (deeded North) 40.00 feet to a found 5/8″ rebar with cap number 20800148 and the point of beginning of the land herein described; thence continuing North 00°03′03″ West (deeded north) 690.52 feet to a set ⅝″ rebar with cap number 20800148; thence north 58°20′40″ east (deeded north 58°07′20″ East) parallel with the centerline of prairie avenue 199.36 feet (deeded 199.62 feet) to a set ⅝″ rebar with cap number 20800148; thence south 00°03′03″ east (deeded south) 793.17 feet to a found ⅜″ capped rebar; thence south 89°20′04″ west parallel with and 40.00 feet north of said east and west quarter line 169.80 feet to the point of beginning.

TPN: 018-8153-5503

Jacobs

That part of the Southeast Quarter of Section 21, Township 37 North, Range 2 East, City of South Bend, Portage Township, St. Joseph County, Indiana, described as: Commencing at the East Quarter Corner of said Section 21, said point being a found Harrison Monument and referenced as a St. Joseph County Remonumentation Corner, Station Number 425; thence North 89°35′39″ West on the North line of said Southeast Quarter (line being between a found Harrison Marker at the center of Section and said East Quarter Corner) 660.03 feet to the East line of the West half of the Northeast Quarter of the Southeast Quarter of said Section 21; thence South 00°20′11″ East on said East line 100.85 feet to a ⅝″ rebar with cap #22436 marking the Northwest corner of lot 2A of the Plat of First Amended Plat of Locust Meadows First Replat and the point of beginning of the land herein described; thence continuing South 00°20′11″ East (platted 00°36′50″ West) on said East line and the West line of said Locust Meadows First Replat 907.19 feet to a set ⅝″ rebar with cap #20800148 on the Northeasterly Right of Way line of US Highway 31/State Road 20; thence North 39°49′12″ West (deeded North 40°30′ West) on said Northeasterly Right of Way line 568.40 feet to a set ⅝″ rebar with cap #20800148; thence North 09°06′36″ West (deeded North 10°10′ West) on said Northeasterly Right of Way line 137.20 feet (deeded 132.7 feet) to a set ⅝″ rebar with cap #20800148 at the Southeasterly Right of Way line of Prairie Avenue (State Road 23); thence North 45°58′ 12″ East (deeded North 45°30′ East) on said Southeasterly Right of Way line 84.30 feet a set ⅝″ rebar with cap #20800148; thence Northeasterly 422.99 feet on said Southeasterly Right of Way line and on a 3811.50 foot radius curve to the right whose chord bears North 49°08′ 47″ East 422.77 feet to the point of beginning. Said in survey to contain 4.50 acres, more or less.

TPN: 018-8152-5497

Janzi

That part of the Southwest Quarter of Section 22, Township 37 North, Range 2 East, City of South Bend, Portage Township, St. Joseph County, Indiana, described as: Commencing at an aluminum cap with dimple marking the center of said Section 22; thence South 00°15′29″ West on the east line of the Southwest Quarter of said Section 22 a distance of 514.49 feet (deeded south 515.625 feet); thence South 89°07′21″ West (deeded west) 30.01 feet to a capped rebar on the west right of way line of Locust Road and the point of beginning of the land herein described; thence South 00°15′29″ West on said west right of way line and parallel with said east line 96.00 feet to a capped rebar; thence South 89°07′21″ West (deeded west) 300.00 feet to a 1” pinch pipe; thence North 00°15′29″ East (deeded north) parallel with said east line 96.00 feet to a ⅝″ rebar with cap #20800148 on the south line of Locust Meadows First Replat, Document Number 0620937; thence North 89°07′21″ East (deeded east, platted North 88°49′44″ East) on said south line and said south line extended 300.00 feet to the point of beginning.

Subject to legal highways.

Address: V/L Locust Road, South Bend, IN 46614

TPN: 018-8155-5576

Jones

That part of the Northwest Quarter of Section 22, Township 37 North, Range 2 East, City of South Bend, Portage Township, St. Joseph County, Indiana, described as: Commencing at the West Quarter corner of said Section 22, said point being a found Harrison monument and referenced as a St. Joseph County remonumentation corner, station number 425; thence North 89°20′04″ East (deeded East) on the south line of the Northwest Quarter of said Section 22 a distance of 749.91 feet (deeded 749.2 feet) to an iron pipe; thence North 00°03′03″ West (deeded north) 40.00 feet to a ⅜″ capped rebar and the point of beginning of the land herein described; thence continuing North 00°03′03″ West (deeded North) 810.78 feet to the southeasterly right of way line of Prairie Avenue (State Road 23); thence North 58°20′40″ East on said southeasterly right of way line 99.68 feet to a ¾″ pinch pipe inside a 2′ iron pipe; thence South 00°03′03″ East (deeded South) 862.11 feet to a ⅜″ inch capped rebar on the north line of an exception for Donmoyer Avenue; thence South 89°20′04″ West (deeded West) parallel with and 40 feet north of said south line 84.90 feet to the point of beginning.

Subject to legal highways.

TPN: 018-8153-5508

Jurgonski

That part of the Northwest Quarter of Section 22, Township 37 North, Range 2 East, City of South Bend, Portage Township, St. Joseph County, Indiana, described as: Commencing at the west quarter corner of said Section 22, said point being a found Harrison monument and referenced as a St. Joseph County remonumentation corner, station number 425; thence north 89°20′04″ East (deeded east) on the south line of the Northwest Quarter of said Section 22 a distance of 70.00 feet to a ⅝″ rebar with cap #20800148; thence North 00°05′32″ West (deeded north) parallel with the west line of the Northwest Quarter of said Section 22 a distance of 40.00 feet to a ⅝″ rebar with cap #20800148 and the point of beginning of the land herein described; thence continuing North 00°05′32″ West (deeded north) parallel with said west line 381.47 feet to a ⅝″ rebar with cap #20800148; thence North 58°20′24″ East 200.30 feet (deeded North 58°07′20″ East 199.14 feet) to a ⅝″ rebar with cap #20800148; thence South 00°05′32″ East (deeded south) parallel with said west line 484.62 feet to a ⅝″ rebar with cap #20800148 on the north line of an exception of Donmoyer Avenue; thence South 89°20′04″ West (deeded west) parallel with and 40 feet north of said south line 170.67 feet to the point of beginning. Containing 1.70 acres, more or less.

Subject to legal highways.

TPN: 018-8155-5507

Miltenberger

That part of the East Half of the Northeast Quarter of the Southeast Quarter of Section 21, Township 37 North, Range 2 East, City of South Bend, Portage Township, St. Joseph County, Indiana, described as follows: Commencing at the East Quarter corner of said Section 21; thence South 00 degrees 19 minutes 53 seconds East (deeded south) on the east line of said Section 21 a distance of 530.19 feet (deeded 528.7); thence North 89 degrees 38 minutes 11 seconds West (deeded west) 30.00 feet to a rebar with cap #22436 on the west right of way line of South Maple Road and the point of beginning of the land herein described; thence South 00 degrees 19 minutes 53 seconds East on said west right of way line and parallel with said east section line 100.00 feet to a ⅝″ rebar with cap #20800148; thence North 89 degrees 38 minutes 11 seconds West (deeded west) parallel with and 100.00 feet south of the south line of Lot 2A Locust Meadows First Replat, Document Number 0620937 a distance of 435.60 feet to a ⅝″ rebar with cap #20800148; thence North 00 degrees 19 minutes 53 seconds West (deeded north) parallel with said east section line 100.00 feet to a ⅝″ rebar with cap #20800148 on said south line; thence South 89 degrees 38 minutes 11 seconds East (deeded east, platted South 89 degrees 55 minutes 48 seconds East) on said south line 435.60 feet to the point of beginning. Said in survey to contain 1.03 acre, more or less.

Together with the west half of vacated Maple Road as adopted by South Bend City Ordinance 10093-11 lying east and adjacent to above described parcel. Maple Road was vacated by the passage of Ordinance 10093-11 (recorded as Instrument 1334492) on June 13, 2011 by the Common Council of the City of South Bend.

Subject to legal highways.

Address: 3125 S Maple, South Bend, IN 46625.

TPN: 018-8152-5501

Santana

That part of the Northwest Quarter of Section 22, Township 37 North, Range 2 East, City of South Bend, Portage Township, St. Joseph County, Indiana, described as:

Beginning at the West Quarter corner of said Section 22, said point being a found Harrison monument and referenced as a St. Joseph County remonumentation corner, station number 425; thence North 00 degree 05 minutes 32 seconds West on the west line of the Northwest Quarter of said Section 22 a distance of 397.25 feet to a ⅝″ rebar with cap #20800148 at the intersection of the east right of way line of Maple Road with the southeasterly right of way line of Prairie Avenue (State Road 23); thence North 58 degrees 20 minutes 40 seconds East on said southeasterly right of way line 82.15 feet to a ⅝″ rebar with cap #20800148; thence South 00 degrees 05 minutes 32 seconds East parallel with said west line 439.55 feet to a ⅝″ rebar with cap #20800148 on the south line of the Northwest Quarter of said Section 22; thence South 89 degrees 20 minutes 04 seconds West (platted South 89 degrees 01 minutes 35 seconds West) on said south line 70.00 feet to the point of beginning.

Together with the east half of vacated Maple Road as adopted by South Bend City Ordinance Number 10093-11, lying in the Northeast Quarter of Section 21, Township 37 North, Range 2 East, City of South Bend Portage Township, St. Joseph County, Indiana and lying west and adjacent to the above described real estate. Maple Road was vacated by the passage of Ordinance 10093-11 (recorded as Instrument 1334492) on June 13, 2011 by the Common Council of the City of South Bend.

Subject to legal highways.

TPN: 018-8153-5504

Sedam

A part of the Southwest Quarter of the Northwest Quarter of Section 22 Township 37 North, Range 2 East, described as follows: Beginning at a point 282 feet in a Northeasterly direction from the intersection of the West line of said Section with the center line of Prairie Avenue referred to as point “A”; thence 300 feet in a Northeasterly direction along the said center line of Prairie Avenue to a point referred to a point “B”; from a line drawn between points “A” and “B” comprising the north line of the property, the property lines extend from points “A” and “B” Southward to the north property line of Donmoyer Avenue, which property line comprises the south line of the property herein sold, said in previous deeds to comprise 3.44 acres, more or less.

Except A part of the Southwest Quarter of the Northwest Quarter of Section 22, Township 37 North, Range 2 East, in St. Joseph County, Indiana, described as follows:

Commencing at the southwest corner of said Southwest Quarter of the Northwest Quarter; thence North 89°07′35′ East (assumed bearing) 239.8 feet along the South line of said Southwest Quarter; thence North 00°22′40″ West 523.80 feet along the west line of land formerly belonging to Herman C. Mutchler as described in Book 369, Page 599, in the Office of the Recorder, St. Joseph County, Indiana, to the Point of Beginning; thence continuing North 00°22′40″ West 64.50 feet along said West line to the centerline of State Road 23, also being the Northern line of said Mutchler land; thence North 58°07′20″ East 302.17 feet along said centerline to the east line of said Mutchler land; thence South 00°09′02″ East 64.66 feet along said east line; thence South 58°07′20″ West 301.87 feet to the point of beginning.

Being described in a survey as: That part of the Northwest Quarter of Section 22, Township 37 North, Range 2 East, City of South Bend, Portage Township, St. Joseph County, Indiana, described as:

Commencing at the West Quarter corner of said Section 22, said point being a found Harrison Monument and referenced as a St. Joseph County Remonumentation corner, Station Number 425; thence North 89°20′04″ East on the South line of the Northwest Quarter of said Section 22 a distance of 240.67 feet to a 3/4” iron pipe; thence North 00°05′32″ West parallel with the West line of said Section 22 a distance of 40.00 feet to a ⅝″ rebar with cap #20800148 and the point of beginning of the land herein described; thence continuing North 00°05′32″ West 484.62 feet to a ⅝″ rebar with cap #20800148; thence North 58°20′40″ East 299.30 feet (deeded North 58°07′20″ East 301.87 feet) to a ⅝″ rebar with cap #20800148; thence South 00°03′03″ East 638.74 feet to a ⅝″ rebar with cap #20800148; thence South 89°20′04″ West parallel with and 40.00 feet North of said South line 254.57 feet to the point of beginning.

Subject to legal highways.

TPN: 018-8153-5505

Shafer

That part of the Southwest Quarter of Section 22, Township 37 North, Range 2 East, City of South Bend, Portage Township, St. Joseph County, Indiana, described as: Commencing at an aluminum cap with dimple marking the center of said Section 22; thence South 00°15′29″ West (deeded south) on the east line of the Southwest Quarter of said Section 22 a distance of 610.49 feet; thence South 89°11′00″ West 30.01 feet to a capped rebar on the westerly right of way line of Locust Road and the point of beginning of the land herein described; thence South 00°15′29″ West (deeded south) on said west right of way line and parallel with said east line 80.01 feet to a ⅝″ rebar with cap #20800148; thence South 89°11′00″ West (deeded west) 298.76 feet to a 1″ pinch pipe; thence South 00°15′29″ West (deeded south) parallel with said east line 80.00 feet to a 1″ pinch pipe; thence North 89°11′00″ East (deeded east) 298.76 feet to a ⅝″ rebar with cap #20800148 on said west right of way line; thence South 00°15′29′ West (deeded south) on said west right of way line and parallel with said east line 12.41 feet to a ⅝″ rebar with cap #20800148; thence South 89°20′36″ West (deeded west) 1285.44 feet to a 1″ iron pipe on the west line of the east half of the Southwest Quarter of said Section 22, said line also being the east line of Locust Meadows First Replat, Document Number 0620937; thence North 00°02′40″ West (deeded north, platted North 00°19′32″ West) on said west line and on said east subdivision line 263.41 feet to a rebar with cap #22436; thence North 89°07′21″ East (deeded east, platted North 88°49′44″ East) on the south line of said Locust Meadows First Replat 988.15 feet to a ⅝″ rebar with cap #20800148; thence South 00°15′29″ West (deeded south) parallel with said east line 95.65 feet (deeded 96.00 feet) to a 1″ pinch pipe; thence North 89°11′00″ East (deeded east) 298.76 feet to the point of beginning.

Subject to legal highways.

TPN: 018-8155-5575

Dated: December 5, 2016.
Lawrence S. Roberts,
Principal Deputy Assistant Secretary—Indian Affairs.

[FR Doc. 2016-29746 Filed 12-9-16; 8:45 am]

BILLING CODE 4337-15-P